DEPARTMENT OF DEFENSE

Office of the Secretary

[Docket ID: DoD-2024-OS-0094]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by November 18, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Medical Screening of Military Personnel-Medical History Report and Accession Medical History Report; DD Form 2807-1/DD Form 2807-2; OMB Control Number 0704-0413.

Type of Request: Extension.

Number of Respondents: 773,003.

Responses per Respondent: 1.

Annual Responses: 773,003.

Average Burden per Response: 10 minutes.

Annual Burden Hours: 128,834.

Needs and Uses: This information collection is the basis for determining medical eligibility of applicants for entry in the Armed Forces. This information is needed to determine the medical qualifications of applicants based upon their current and past medical history. The information obtained on the DD Form 2807-2 ensures the recruiter that an applicant meets the Congressional requirements to obtain both the applicant's Health Care provider and Insurance provider. Additionally, it allows the military examining physician to obtain medical records critical to evaluating the applicant's medical condition(s) prior to their medical examination. The DD Form 2807-1 is needed as part of the required medical examination to assist physicians in making determinations as to acceptability of applicants for military service and verifies disqualifying medical condition(s) noted on the accession medical history report form.

Affected Public: Individuals or households.

Frequency: On occasion.

Respondent's Obligation: Voluntary.

OMB Desk Officer: Ms. Jasmeet Seehra.

DoD Clearance Officer: Mr. Reginald Lucas.

Dated: October 15, 2024.
Aaron T. Siegel,
Alternate OSD Federal Register Liaison Officer, Department of Defense.

[FR Doc. 2024-24142 Filed 10-17-24; 8:45 am]

BILLING CODE 6001-FR-P